DEPARTMENT OF THE TREASURY

Office of Foreign Assets Control

Designation of Seven Entities Pursuant to Executive Order 13448 or Executive Order 13464 and Amendment of an Existing Specially Designated National Listing

AGENCY: Office of Foreign Assets Control, Treasury.

ACTION: Notice.

SUMMARY: The Treasury Department's Office of Foreign Assets Control (“OFAC”) is publishing the names of seven entities whose property and interests in property are blocked pursuant to Executive Order 13464 of April 30, 2008 (“Blocking Property and Prohibiting Certain Transactions Related to Burma”) (“E.O. 13464”) or Executive Order 13448 of October 18, 2007 (“Blocking Property and Prohibiting Certain Transactions Related to Burma”) (“E.O. 13448”). OFAC is also amending the listing of a person whose property and interests in property were previously blocked.

DATES: The designation by the Director of OFAC of the seven entities named in this notice, pursuant to E.O. 13464 or E.O. 13448, and the amendment to an existing listing are effective November 16, 2012.

FOR FURTHER INFORMATION CONTACT: Assistant Director for Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On October 18, 2007, President George W. Bush signed E.O. 13448 pursuant to, inter alia, the International Emergency Economic Powers Act (50 U.S.C. 1701 et seq.) (IEEPA). In E.O. 13448, President George W. Bush expanded the national emergency declared in Executive Order 13047 of May 20, 1997, and took additional steps with respect to the Government of Burma's continued repression of the democratic opposition. The President identified twelve individuals and entities in the Annex to E.O. 13448.

Section 1 of E.O. 13448 blocks, with certain exceptions, all property and interests in property that are in, or thereafter come within, the United States, or within the possession or control of United States persons, of the persons listed in the Annex to E.O. 13448, as well as those persons determined by the Secretary of the Treasury, after consultation with the Secretary of State, to satisfy any of the criteria set forth in subparagraphs (b)(i)-(b)(vi) of Section 1 of E.O. 13448.

On November 16, 2012, the Director of OFAC, after consultation with the Department of State, designated, pursuant to one or more of the criteria set forth in Section 1 subparagraphs (b)(i)-(b)(vi) of E.O. 13448, the following four entities, whose names have been added to the list of Specially Designated Nationals and Blocked Persons and whose property and interests in property are blocked pursuant to E.O. 13448:

1. GOLD ENERGY CO. LTD., No. 74 Lan Thit Road, Insein Township, Rangoon, Burma; Taungngu (Tungoo) Branch, Karen State, Burma [BURMA].

2. GOLD OCEAN PTE LTD, 101 Cecil Street #08-08, Tong Eng Building, Singapore 069533, Singapore; 1 Scotts Road, #21-07/08 Shaw Centre, Singapore 228208, Singapore [BURMA].

3. GREAT SUCCESS PTE. LTD., 1 Scotts Road, #21/07-08 Shaw Centre, Singapore, 228208, Singapore; 101 Cecil Street #08-08, Tong Eng Building, Singapore, 069533, Singapore [BURMA].

4. GREEN LUCK TRADING COMPANY (a.k.a. GREEN LUCK TRADING COMPANY LIMITED), No. 61/62 Bahosi Development, Wadan Street, Lanmadaw Township, Rangoon, Burma; No. 74 Lan Thit Street, Insein Township, Rangoon, Burma [BURMA].

On April 30, 2008, President George W. Bush signed E.O. 13464, pursuant to, inter alia, the International Emergency Economic Powers Act (50 U.S.C. 1701 et seq.). In E.O. 13464, President George W. Bush took additional steps with respect to the national emergency declared in Executive Order 13047 of May 20, 1997 and expanded in E.O. 13448.

Section 1 of E.O. 13464 blocks, with certain exceptions, all property and interests in property that are in, or thereafter come within, the United States, or within the possession or control of any United States person, of the persons listed in the Annex to E.O. 13464, as well as those persons determined by the Secretary of the Treasury, after consultation with the Secretary of State, to satisfy any of the criteria set forth in subparagraphs (b)(i)-(b)(iii) of Section 1 of E.O. 13464.

On November 16, 2012, the Director of OFAC, after consultation with the Department of State, designated, pursuant to one or more of the criteria set forth in Section 1, subparagraphs (b)(i)-(b)(iii) of E.O. 13464, the following three entities, whose names have been added to the list of Specially Designated Nationals and Blocked Persons and whose property and interests in property are blocked pursuant to E.O. 13464:

1. ASIA PIONEER IMPEX PTE. LTD., 10 Anson Road, #23-16 International Plaza, Singapore 079903, Singapore [BURMA].

2. TERRESTRIAL PTE. LTD., 3 Raffles Place, #06-01 Bharat Building, Singapore 048617, Singapore; 10 Anson Road, #23-16 International Plaza, Singapore 079903, Singapore [BURMA].

3. ASIA GREEN DEVELOPMENT BANK (a.k.a. AGD BANK), 168 Thiri Yatanar Shopping Complex, Zabu Thiri Township, Nay Pyi Taw, Burma; 73/75 Sule Pagoda Road, Pabedan Township, Yangon, Burma; SWIFT/BIC AGDB MM MY [BURMA].

OFAC is also amending the Golden Aaron Pte. Ltd. listing on the Department of the Treasury's List of Specially Designated Nationals and Blocked Persons. The entry has been amended as:

GOLDEN AARON PTE. LTD. (a.k.a. CHINA FOCUS DEVELOPMENT; a.k.a. CHINA FOCUS DEVELOPMENT LIMITED; a.k.a. CHINA FOCUS DEVELOPMENT LTD.), 3 Shenton Way, 10-01, Shenton House, Singapore 068805, Singapore; 101 Cecil Street, 08-08 Tong Eng Building, Singapore 069533, Singapore; China; Unit 2612A, Kuntai International Center, No. 12 Chaowai Street, Chaoyang District, Beijing 100020, China [BURMA] [JADE]

Dated: November 16, 2012.
Adam J. Szubin,
Director, Office of Foreign Assets Control.

[FR Doc. 2012-28360 Filed 11-21-12; 8:45 am]

BILLING CODE 4810-AL-P